FEDERAL COMMUNICATIONS COMMISSION

47 CFR Parts 2 and 5

[ET Docket No. 10-236 and 06-155; FCC 13-15]

Radio Experimentation and Market Trials-Streamlining Rules

Correction

In rule document 2014-19293, appearing on page 48691 in the issue of Monday, August 18, 2014, make the following correction:

§ 5.302 [CORRECTED]

On page 48691, in the second column, third line from the bottom, “§ 5.3012 [AMENDED]” should read “§ 5.302 [AMENDED]”.

[FR Doc. C1-2014-19293 Filed 8-21-14; 8:45 am]

BILLING CODE 1505-01-D